DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by February 13, 2023 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number, and the agency informs potential persons who are to respond to the collection of information that such persons are not required to respond to the collection of information unless it displays a currently valid OMB control number.

Animal and Plant Health Inspection Service

Title: Handling Swine with Potential Vesicular Disease.

OMB Control Number: 0579-New.

Summary of Collection: The Animal Health Protection Act (AHPA) of 2002 is the primary Federal law governing the protection of animal health. The law gives the Secretary of Agriculture broad authority to detect, control, or eradicate pests or diseases of livestock or poultry. The Secretary may also prohibit or restrict import or export of any animal or related material if necessary to prevent the spread of any livestock or poultry pest or disease. The AHPA is contained in Title X, subtitle E, sections 10401-18 of Public Law 107-171, May 13, 2002, the Farm Security and Rural Investment Act of 2002 [7 U.S.C. 8301 et seq.]

Need and Use of the Information: Information collection activities associated with reporting and rapid detection include notifiable swine disease reporting, National Animal Health Reporting System, monthly State and Area Veterinarian In Charge reports, and FAD data collection and investigations. Data collected for emerging disease investigations and outbreaks may require more information depending on the situation. APHIS will use diagnostic testing results, number of detections, and epidemiological information to detect and evaluate the status of a potential emerging disease threat. Once APHIS confirms there is an emerging animal disease, it will use this information to create specific case definitions and disease reporting criteria.

If the information was collected less frequently or not collected at all, it would significantly cripple APHIS' ability to evaluate the risk of spreading swine vesicular disease in the United States. This would have serious effects on the U.S. livestock industry and international trade.

Description of Respondents: Business or other for-profit; State, Local or Tribal Government; Individuals or households.

Number of Respondents: 75.

Frequency of Responses: Reporting: On occasion.

Total Burden Hours: 6,900.

Ruth Brown,
Departmental Information Collection Clearance Officer.

[FR Doc. 2023-00483 Filed 1-11-23; 8:45 am]

BILLING CODE 3410-34-P